DEPARTMENT OF HOMELAND SECURITY

Coast Guard

33 CFR Part 117

[Docket No. USCG-2014-0582]

Drawbridge Operation Regulation; Lake Washington, Seattle, WA

AGENCY: Coast Guard, DHS.

ACTION: Notice of deviation from drawbridge regulation.

SUMMARY: The Coast Guard has issued a temporary deviation from the operating schedule that governs the Evergreen Point Floating Bridge (State Route 520) across Lake Washington at Seattle, WA. This deviation is necessary to accommodate the Seafair Air Show practice and event. This deviation allows the bridge to remain in the closed position to help minimize traffic congestion during the event.

DATES: This deviation is effective from 9:45 a.m. on July 31, 2014 to 2:40 p.m. August 3, 2014.

ADDRESSES: The docket for this deviation, [USCG-2014-0582] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Steven Fischer, Bridge Administrator, Thirteenth Coast Guard District; telephone 206-220-7282, email Steven.M.Fischer3@uscg.mil. If you have questions on viewing the docket, call Cheryl Collins, Program Manager, Docket Operations, telephone 202-366-9826.

SUPPLEMENTARY INFORMATION: The Washington State Department of Transportation has requested that the draw span of the Evergreen Point Floating Bridge (State Route 520) remain closed to vessel traffic during the Seafair Airshow practice and event. The Intersate-90 floating bridge will be closed to road traffic during this time, resulting in heavier than normal vehicle traffic on the Evergreen Point Floating Bridge. The Evergreen Point Floating Bridge will remain closed to vessel traffic to help with vehicular traffic congestion.

The Evergreen Point Floating Bridge provides three navigational openings for vessel passage, the movable floating span, subject to this closure, and two fixed navigational openings; one on the east end of the bridge and one on the west end. The fixed navigational opening on the east end of the bridge provides a horizontal clearance of 150 feet and a vertical clearance of 57 feet. The opening on the west end of the bridge provides a horizontal clearance of 170 feet and a vertical clearance of 45 feet.

Vessels which do not require a bridge opening may continue to transit beneath the bridges during this closure period. Under normal conditions, during this time frame, the bridge operates in accordance with 33 CFR 117.1049 which states the bridge shall open on signal if at least two hours notice is given. The deviation allows the floating draw span of the Evergreen Point Floating Bridge on Lake Washington to remain in the closed position and need not open for maritime traffic from 9:45 a.m. to 12 p.m. and 1:15 p.m. to 2:40 p.m. on July 31, 2014, and 12:15 p.m. to 2:40 p.m. on August 1st, 2014, and 12:15 p.m. to 2:40 p.m. on August 2nd, 2014, and 12:15 p.m. to 2:40 p.m. on August 3rd, 2014. The bridge shall operate in accordance to 33 CFR 117.1049 at all other times. Waterway usage on the Lake Washington Ship ranges from commercial tug and barge to small pleasure craft. Vessels able to pass through the bridge in the closed positions may do so at anytime. The bridge will be able to open for emergencies and there is no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the designated time period. This deviation from the operating regulations is authorized under 33 CFR 117.35.

Dated: July 15, 2014.
Steven M. Fischer,
Bridge Administrator, Thirteenth Coast Guard District.

[FR Doc. 2014-17597 Filed 7-24-14; 8:45 am]

BILLING CODE 9110-04-P